LEGAL SERVICES CORPORATION

Sunshine Act Meeting of the Board of Directors Operations & Regulations Committee

Time and Date: The Operations and Regulations Committee of the Legal Services Corporation Board of Directors will meet on April 5, 2002. The meeting will begin at 1:00 p.m. and continue until the Committee concludes its agenda.

Location: The Melrose Hotel, 2430 Pennsylvania Avenue, NW., Washington, DC.

Status of Meeting: Open.

Matters to be Considered: 1. Approval of agenda.

2. Approval of the minutes of the Committee's meeting of January 18, 2002.

3. Consider and act on whether to authorize the President of LSC to extend the contracts of corporate officers for six months.

4. Staff report on the status of Current Negotiated Rulemakings: 45 CFR part 1626 (Restrictions on Legal Assistance to Aliens); and 45 CFR part 1611 (Eligibility).

5. Staff report on the development and publication of grant assurances.

6. Consider and act on draft Final Rule, 45 CFR part 1639 (Welfare Reform).

7. Consider and act on Property Acquisition and Management Manual issues relating to: incorporation into LSC regulations at title 45 of the CFR; application of PAMM standards to prior acquired property; and use of recouped funds.

8. Staff report on practices relating to Corporation access to grantee records.

9. Consider and act on a protocol for access to records by LSC's Office of Compliance and Enforcement.

10. Report on internal process for resolving disputes between grantees and LSC's Office of Compliance & Enforcement.

11. Consider and act on other business.

12. Public comment.

FOR FURTHER INFORMATION CONTACT: Victor M. Fortuno, Vice President for Legal Affairs, General Counsel & Corporate Secretary, at (202) 336-8800.

Special Needs: Upon request, meeting notices will be made available in alternate formats to accommodate visual and hearing impairments. Individuals who have a disability and need an accommodation to attend the meeting may notify Elizabeth S. Cushing, at (202) 336-8800.

Dated: March 28, 2002.
Victor M. Fortuno,
Vice President for Legal Affairs, General Counsel & Corporate Secretary.

[FR Doc. 02-8033 Filed 3-29-02; 11:28 am]

BILLING CODE 7050-01-P